DEPARTMENT OF TRANSPORTATION

Federal Highway Administration

Notice of Final Federal Agency Actions on Proposed Highway in Pennsylvania

AGENCY: Federal Highway Administration (FHWA), DOT.

ACTION: Notice of limitation on claims for judicial review of actions by FHWA.

SUMMARY: This notice announces actions taken by the FHWA and other Federal agencies that are final within the meaning of 23 U.S.C. 139(l)(1). The actions relate to a proposed highway project, Southern Beltway project, U.S. 22 to I-79 in Allegheny and Washington Counties, Pennsylvania, and those actions grant licenses, permits, and approvals for the project.

DATES: By this notice, the FHWA is advising the public of final agency actions subject to 23 U.S.C. 139(l)(1). A claim seeking judicial review of the Federal agency actions on the highway project will be barred unless the claim is filed on or before [March 17; 180 days after publication in the Federal Register]. If the Federal law that authorizes judicial review of a claim provides a time period of less than 180 days for filing such claim, then that shorter time period still applies.

FOR FURTHER INFORMATION CONTACT: Karyn Vandervoort, Environmental Program Manager, Federal Highway Administration, 228 Walnut Street, Room 508, Harrisburg, PA 17101-1720, between 8 a.m. and 4 p.m., (717) 221-2276, karyn.vandervoort@fhwa.dot.gov or David Willis, Environmental Manager, Pennsylvania Turnpike Commission, P.O. Box 67676, Harrisburg, PA 17106-7676 between 9 a.m. and 3 p.m., (717) 939-9551, dwillis@paturnpike.com.

SUPPLEMENTARY INFORMATION: Notice is hereby given that the FHWA have taken final agency actions by issuing licenses, permits, and approvals for the following highway project in the Commonwealth of Pennsylvania: A four-lane, limited access, tolled highway extending approximately 13.3 miles from U.S. 22 at the completed Findlay Connector (Turnpike 576) in Allegheny County, Pennsylvania, southeast to the I-79 in Cecil Township, Washington County. The highway will improve access to neighborhoods and economic redevelopment areas; and improve major highway linkages. The actions by the Federal agencies, and the laws under which such actions were taken, are described in the Final Environmental Impact Statement (FEIS) for the project, approved on September 29, 2006, in the FHWA Record of Decision (ROD) issued on September 3, 2008, and in other documents in the FHWA administrative record. The FEIS, ROD, and other documents in the FHWA administrative record file are available by contacting the FHWA or the Pennsylvania Turnpike Commission at the addresses provided above. The FHWA ROD can be viewed and downloaded from the project Web site at http://www.paturnpike.com.

This notice applies to all Federal agency decisions as of the issuance date of this notice and all laws under which such actions were taken, including but not limited to:

1. National Environmental Policy Act (NEPA) [42 U.S.C. 4321-4351].

2. Federal-Aid Highway Act [23 U.S.C. 109].

3. Section 4(f) of the Department of Transportation Act of 1966 [49 U.S.C. 303].

4. Clean Air Act, 42 U.S.C. 7401-7671(q).

5. Section 106 of the National Historic Preservation Act of 1966, as amended [16 U.S.C. 470(f) et seq.]

6. Endangered Species Act [16 U.S.C. 1531-1544 and Section 1536].

7. Clean Water Act (Section 404, Section 401, Section 319) [33 U.S.C. 1251-1377].

8. Executive Orders 11990 (Protection of Wetlands); 11988 (Floodplain Management); and 12898 (Federal Actions to Address Environmental Justice in Minority Populations and Low Income Populations).

(Catalog of Federal Domestic Assistance Program Number 20.205, Highway Planning and Construction. The regulations implementing Executive Order 12372 regarding intergovernmental consultation on Federal programs and activities apply to this program.)

Authority: 23 U.S.C. 139(l)(1).

Issued on: September 8, 2008.
Renee Sigel,
Division Administrator, Harrisburg.

[FR Doc. E8-21412 Filed 9-16-08; 8:45 am]

BILLING CODE 4910-22-M